DEPARTMENT OF DEFENSE

Department of the Army; Corps of Engineers

Availability of a Draft Integrated Feasibility Report and Environmental Impact Statement for the Mid-Chesapeake Bay Island Ecosystem Restoration Project in Dorchester County, on Maryland's Eastern Shore

AGENCY: Department of the Army, U.S. Army Corps of Engineers, DOD.

ACTION: Notice of availability.

SUMMARY: In accordance with the requirements of the National Environmental Policy Act (NEPA), the U.S. Army Corps of Engineers (USACE), Baltimore District has prepared a Draft Integrated Feasibility Report and Environmental Impact Statement (EIS) for the Mid-Chesapeake Bay Island Ecosystem Restoration Project in Dorchester County, on Maryland's Eastern Shore. Approximately 90 to 95 million cubic yards of material, primarily dredged during maintenance of the Chesapeake Bay approach channels to Baltimore Harbor, would be placed behind dikes at James Island. Material placed at Barren Island would be from authorized maintenance dredging of Federal navigation channels in the Honga River. After placement, the material would be shaped and planted to provide 2,144 acres of island habitat at James and Barren Islands as well as protect existing island ecosystem habitat, including critical submerged aquatic vegetation.

DATES: Two public meetings will be held. The meeting dates are:

1. October 11, 2006, 7 p.m., Cambridge, MD.

2. October 12, 2006, 7 p.m., Taylors Island, MD.

ADDRESSES: The first public meeting will be held at the Dorchester County Public Library, Central Branch, 303 Gay Street, Cambridge, MD 21613. The second public meeting will be held at Taylors Island Volunteer Fire Company, 510 Taylors Island Road, Taylors Island, MD 21617.

FOR FURTHER INFORMATION CONTACT: U.S. Army Corps of Engineers, Baltimore District, Attn: Ms. Stacey S. Blersch, CENAB-PL-P, P.O. Box 1715, Baltimore, MD 21203-1715, electronically at Stacey.S.Blersch@usace.army.mil or by telephone at (410) 962-5196 or (800) 295-1610. You may view the Draft EIS and related information on the USACE Web page at http://www.nab.usace.army.mil/publications/non-reg_pub.htm.

SUPPLEMENTARY INFORMATION: A Notice of Intent (NOI) to prepare a draft EIS was published by the U.S. Environmental Protection Agency (EPA) in the Federal Register (68 FR 2532) on January 17, 2003. The Mid-Chesapeake Bay Ecosystem Restoration was one of three actions specifically recommended by the USACE-Baltimore District's Dredged Material Management Plan (DMMP) and Final Tiered Environmental Impact Statement (December 2005). The USACE is making the Draft Mid-Chesapeake Bay Island Ecosystem Restoration Integrated Feasibility Report and EIS available to the public for review and comment through a Notice of Availability published in the Federal Register. The recommendations of the draft Mid-Chesapeake Bay report and EIS are:

• Construction of a 2,072-acre fill area at James Island, consisting of approximately 55 percent tidal wetland habitat and 45 percent upland island habitat;

• Construction and backfilling of sills at Barren Island to protect both the current acreage of the island and the adjacent submerged aquatic vegetation (SAV)/shallow water habitat, providing approximately 72 acres of wetland habitat on the northern and western portions of the island; and

• If deemed necessary to protect the SAV, construction at Barren Island of a maximum of 3,350 feet of breakwater extending South from the southern tip of the existing island at a maximum height of plus 6 feet MLLW.

James and Barren Islands have been identified by the U.S. Fish and Wildlife Service, and other natural resource management agencies as a valuable nesting and nursery area for many species of wildlife, including bald eagles, diamondback terrapins, and potentially horseshoe crabs. The project would restore James Island and protect Barren Island from further erosion. The Draft EIS documents the NEPA compliance and information specific to the actions for the proposed Mid-Chesapeake Bay project.

The Draft Integrated Feasibility report and EIS has been prepared in accordance with (1) NEPA of 1969, as amended (42 U.S.C. 4321 et seq.), (2) regulations of the Council on Environmental Quality for implementing the procedural provisions of NEPA (40 CFR parts 1500-1508), and (3) USACE regulations implementing NEPA (ER-200-2-2).

USACE filed the Draft document with EPA on September 1, 2006 for the publication of Notice of Availability in the September 8, 2006 Federal Register. We must receive comments on or before October 23, 2006, to ensure consideration in final plan development. At both public meetings, the public will have an opportunity to present oral and/or written comments. All persons and organizations that have an interest in the Mid-Chesapeake Bay Integrated Ecosystem Restoration Feasibility Report and EIS are urged to participate in one or both meetings. Staff will be available one hour prior to the meeting start time. A Record of Decision may be signed no earlier than 30 days after the EPA Notice of Availability for the Final document.

Your comments must be contained in the body of your message; please do not send attached files. Please include your name and address in your message. You may view the Draft EIS and related information on the USACE Web page at http://www.nab.usace.army.mil/publications/non-reg_pub.htm. USACE has distributed copies of the Draft Integrated Feasibility Report and EIS to appropriate members of Congress, State, and local government officials, Federal agencies, and other interested parties.

Copies are available for public review at the following public reading rooms:

(1) Andrew G. Trial Library, Anne Arundel Community College, 101 College Parkway, Arnold, MD 21012.

(2) Anne Arundel County Public Library, 1410 West Street, Annapolis, MD 21401.

(3) Anne Arundel County Public Library, Annapolis Branch, 5 Harry S. Truman Parkway, Annapolis, MD 21401.

(4) Calvert County Public Library, 30 Duke Street, Prince Frederick, MD 20678.

(5) Chesapeake College Library, Wyes Mills, MD 21679.

(6) Corbin Memorial Library, 4 East Main Street, Crisfield, MD 21817.

(7) Dorchester County Public Library, 303 Gay Street, Cambridge, MD 21613.

(8) Dorchester County Public Library, Hurlock Branch, 222 S. Main Street, Hurlock, MD 21643.

(9) Eastern Shore Public Library, 23610 Front Street, Accomack, VA 23301.

(10) Enoch Pratt Free Library, 400 Cathedral Street, Baltimore, MD 21201.

(11) Federal Maritime Commission, 110 L Street NW., Washington, DC 20573.

(12) Kent County Public Library, 408 High Street, Chestertown, MD 21620.

(13) Maryland State Law Library, Court of Appeals Building, 361 Rowe Boulevard, Annapolis, MD 21401.

(14) Northumberland County Public Library, 7204 Northumberland Highway, Heathsville, VA 22473.

(15) Queen Anne's County Public Library, Centreville Branch, 121 S. Commerce Street, Centreville, MD 21617.

(16) Queen Anne's County Public Library, Stevensville Branch, 200 Library Circle, Stevensville, MD 21666.

(17) Somerset County Library, 11767 Beechwood Street, Princess Anne, MD 21853.

(18) Somerset County Library, Ewell Branch, 20910 Caleb Jones Road, Ewell, MD 21824.

(19) State Department of Legislative Reference Library, 90 State Circle, Annapolis, MD 21401.

(20) St. Mary's County Memorial Library, Leonardtown Branch, 23250 Hollywood Road, Leonardtown, MD 20650.

(21) Sudlersville Memorial Library, Easton Branch, 100 West Dover Street, Easton, MD 21601.

(23) Talbot County Public Library, St. Michaels Branch, 106 Freemont Street, St. Michaels, MD 21663.

(24) Talbot County Public Library, Tilghman Island Elementary School Branch, 21374 Foster Avenue, Tilghman, MD 21671.

(25) Twin Beaches Library, 3819 Harper Road, Chesapeake Beach, MD 20732.

(26) Wicomico County Free Library, 122 S. Division Street, Salisbury, MD 21801.

After the public comment period ends on October 23, 2006, the USACE will consider all comments received. The Draft Integrated Feasibility Report and EIS will be revised as appropriate and a Final Integrated Feasibility Repot and EIS will be issued.

Amy M. Guise,
Chief, Civil Project Development Branch.

[FR Doc. 06-7506 Filed 9-7-06; 8:45 am]

BILLING CODE 3710-41-M